DEPARTMENT OF COMMERCE

Bureau of Industry and Security

Information Systems, Technical Advisory Committee; Notice of Open Meeting

The Information Systems Technical Advisory Committee will meet on April 26 and 27, 2006, in the Herbert C. Hoover Building, Room 3884, 14th and Pennsylvania Avenue, NW., Washington, DC. The Committee advises the Office of the Assistant Secretary for Export Administration with respect to technical questions that affect the level of export controls applicable to computer systems and technology.

Agenda

1. Opening Remarks and Introductions.

2. Update on BIS Programs and Activities.

3. Summary of Export Control Workshop at SEMICON.

4. Introduction of Proposals for Category 5.

5. Frequency Synthesizer Assembly Overview.

6. VoIP Networks.

7. 4A3b vs 4A3c Discussions.

The meeting will be open to the public and a limited number of seats will be available. To the extent that time permits, members of the public may present oral statements to the Committee. Written statements may be submitted at any time before or after the meeting. However, to facilitate distribution of public presentation materials to the Committee members, the Committee suggests that presenters forward the public presentation materials two weeks prior to the meeting date to Yvette Springer at Yspringer@bis.doc.gov.

FOR FURTHER INFORMATION CONTACT: Yvette Springer on (202) 482-4814.

Dated: April 7, 2006.
Yvette Springer,
Committee Liaison Officer.

[FR Doc. 06-3555 Filed 4-12-06; 8:45 am]

BILLING CODE 3510-JT-M